DEPARTMENT OF HEALTH AND HUMAN SERVICES

Centers for Disease Control and Prevention

Disease, Disability, and Injury Prevention and Control Special Emphasis Panel: Traumatic Brain Injury Follow-Up Registry and Surveillance of Traumatic Brain Injury in the Emergency Department, Program Announcement #02073

In accordance with section 10(a)(2) of the Federal Advisory Committee Act (Pub. L. 92-463), the Centers for Disease Control and Prevention (CDC) announces the following meeting:

Name: Disease, Disability, and Injury Prevention and Control Special Emphasis Panel (SEP): Traumatic Brain Injury Follow-Up Registry and Surveillance of Traumatic Brain Injury in the Emergency Department, Program Announcement #02073.

Times and Dates: 2 p.m.-2:15 p.m., July 12, 2002 (Open); 2:15 p.m.-4 p.m., July 12, 2002 (Closed).

Place: Teleconference number: 800.713.1971.

Status: Portions of the meeting will be closed to the public in accordance with provisions set forth in section 552b(c) (4) and (6), Title 5 U.S.C., and the Determination of the Director, Management Analysis and Services Office, CDC, pursuant to Public Law 92-463.

Matters To Be Discussed: The meeting will include the review, discussion, and evaluation of applications received in response to PA# 02073.

Contact Person for More Information: Dr. Richard Sattin, Associate Director for Science, National Center for Injury Prevention and Control, CDC, 2495 Flowers Road, Atlanta, Georgia 30341; 770.488.4330.

The Director, Management Analysis and Services Office has been delegated the authority to sign Federal Register notices pertaining to announcements of meetings and other committee management activities, for both the Centers for Disease Control and Prevention and the Agency for Toxic Substances and Disease Registry.

Dated: June 21, 2002.
John C. Burckhardt,
Acting Director, Management Analysis and Services Office, Centers for Disease Control and Prevention (CDC).

[FR Doc. 02-16224 Filed 6-26-02; 8:45 am]

BILLING CODE 4163-18-P